DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Tuesday, May 15, 2001, 9 a.m. to 6 p.m.; Wednesday, May 16, 2001, 8:30 a.m. to 12 p.m.

ADDRESSES: Hilton Gaithersburg, 620 Perry Parkway, Gaithersburg, Maryland.

FOR FURTHER INFORMATION CONTACT: Albert L. Opdenaker, Office of Fusion Energy Sciences, U.S. Department of Energy, 19901 Germantown Road, Germantown, MD 20874-1290; Telephone: 301-903-4927.

SUPPLEMENTARY INFORMATION:

Purpose of the Meeting: The major purpose of this meeting is for the full committee to hear a final report from its Theory Program review subpanel and a report from its Proof-of-Principle subpanel dealing with Compact Stellarators.

Tentative Agenda

Tuesday, May 15, 2001

• FY 2002 Budget—Office of Science Perspective

• OFES FY 2002 Budget Request

• Discussion of FESAC Response to NRC report recommendations

• Report on NCSX Physics Review

• Report on QOS Physics Review

• Discussion

Wednesday, May 16, 2001

• Final Report from Theory Review Subpanel

• Public Comments

• Discussion

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room, IE-190, Forrestal Building; 1000 Independence Avenue, SW., Washington, DC between 9 a.m. and 4 p.m., Monday through Friday, except Federal holidays.

Issued at Washington, DC on April 18, 2001.
Belinda Hood,
Acting Deputy Advisory Committee Management Officer.

[FR Doc. 01-10071 Filed 4-23-01; 8:45 am]

BILLING CODE 6450-01-P